SECURITIES AND EXCHANGE COMMISSION

[Release No. 34-100314; File No. SR-CboeEDGA-2024-003]

Self-Regulatory Organizations; Cboe EDGA Exchange, Inc.; Notice of Withdrawal of Proposed Rule Change To Amend Rule 11.6(n)(4) and Rule 11.10(a)(4)(D) To Permit the Use of the Post Only Order Instruction at Prices Below $1.00

June 11, 2024

On January 19, 2024, Cboe EDGA Exchange, Inc. (“EDGA”) filed with the Securities and Exchange Commission (“Commission”), pursuant to Section 19(b)(1) of the Securities Exchange Act of 1934 (“Act”),¹ and Rule 19b-4 thereunder,² a proposed rule change (File Number SR-CboeEDGA-2024-003) to permit the use of the Post Only order instruction at prices below $1.00. The proposed rule change was published for comment in the Federal Register on February 7, 2024.³ On March 19, 2024, pursuant to Section 19(b)(2) of the Act,⁴ the Commission designated a longer period within which to approve the proposed rule change, disapprove the proposed rule change, or institute proceedings to determine whether to disapprove the proposed rule change.⁵ On May 2, 2024, the Commission instituted proceedings pursuant to Section 19(b)(2)(B) of the Act ⁶ to determine whether to approve or disapprove the proposed rule change.⁷ The Commission did not receive any comments on the proposal. On June 5, 2024, EDGA withdrew the proposed rule change (SR-CboeEDGA-2024-003).

¹ 15 U.S.C. 78s(b)(1).

² 17 CFR 240.19b-4.

³ See Securities Exchange Act Release No. 99458 (February 1, 2024), 89 FR 8460.

⁴ 15 U.S.C. 78s(b)(2).

⁵ See Securities Exchange Act Release No. 99765, 89 FR 20721 (March 25, 2024) (designating May 7, 2024, as the date by which the Commission shall either approve, disapprove, or institute proceedings to determine whether to disapprove the proposed rule change).

⁶ 15 U.S.C. 78s(b)(2)(B).

⁷ See Securities Exchange Act Release No. 100051, 89 FR 38933 (May 8, 2024).

For the Commission, by the Division of Trading and Markets, pursuant to delegated authority.⁸
⁸ 17 CFR 200.30-3(a)(12).
Sherry R. Haywood,
Assistant Secretary.

[FR Doc. 2024-13211 Filed 6-14-24; 8:45 am]

BILLING CODE 8011-01-P